NATIONAL AERONAUTICS AND SPACE ADMINISTRATION

[Notice (09-030)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council. The agenda for the meeting includes updates from each of the Council committees, including discussion and deliberation of potential recommendations. The Council Committees address NASA's work in the following areas: Aeronautics, Audit and Finance, Space Exploration, Human Capital, Science, and Space Operations.

DATES: Thursday, April 16, 2009, 8 a.m.-3:30 p.m.

ADDRESSES: National Aeronautics and Space Administration, 300 E Street, SW., MIC 5 (5H45), Overflow Room, MIC7A (7H45), Washington, DC 20546.

FOR FURTHER INFORMATION CONTACT: Ms. Marguerite Broadwell, Designated Federal Official, National Aeronautics and Space Administration, Washington, DC 20546, (202) 358-1894.

SUPPLEMENTARY INFORMATION: The meeting will be open to the public up to the seating capacity of the room. It is imperative that the meeting be held on this date to accommodate the scheduling priorities of the key participants. Attendees will be requested to sign a register and to comply with NASA security requirements, including the presentation of a valid picture ID, before receiving an access badge. Foreign nationals attending this meeting will be required to provide a copy of their passport, visa, or green card in addition to providing the following information no less than 7 working days prior to the meeting: full name; gender; date/place of birth; citizenship; visa/green card information (number, type, expiration date); passport information (number, country, expiration date); employer/affiliation information (name of institution, address, country, phone); and title/position of attendee. To expedite admittance, attendees with U.S. citizenship can provide identifying information 3 working days in advance by contacting Ms. Marla K. King via e-mail at marla.k.king@nasa.gov or by telephone at (202) 358-1148. Persons with disabilities who require assistance should indicate this.

Dated: March 11, 2009.
P. Diane Rausch,
Advisory Committee Management Officer, National Aeronautics and Space Administration.

[FR Doc. E9-5847 Filed 3-17-09; 8:45 am]

BILLING CODE 7510-13-P